FEDERAL MARITIME COMMISSION

Ocean Transportation Intermediary License

Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

LatinCargo, Inc. dba Quisqueyana, 3025 Cypress Pond Pass, Duluth, GA 30097. Officers: Francisco J. Julia, Vice President (Qualifying Individual), Mario Trujillo, President.

Gaius Logistics Services LLC, 22 Willow Road, Closter, NJ 07624. Officer: Chang 7. Kim, Member (Qualifying Individual).

Caribbean Cargo Agencies, Inc., dba Interline Connection, 8240 NW., 52 Terr., Ste. 503, Miami, FL 33166. Officers: Lilia A. Dorticos, President, (Qualifying Individual) Mark P. Swerdel, Director.

Eternal Asia Supply Chain Management (USA) Corp., Bldg. 75, No Hangar, JFK Int'l Airport. Ste. 200. Jamaica, NY 11430. Officers: Hector Grajales, Vice President, (Qualifying Individual) Tak W. Cheng, President.

G.P. Logistics, Inc., 9910 NW., 21 Street, Floral, FL 33172. Officers: Sonia Sergueta, Acct. Executive, Qualifying Individual) Byron E. Reeler, President.

Non-Vessel Operating Common Carrier and Ocean Freight Forwarder Transportation Intermediary Applicants

Interex Mega Line USA, Inc., 15550 Vickery Drive, Ste. 100, Houston, TX 77032. Officer: Sonia Kim, President. (Qualifying Individual)

C C Imports, Inc., 1504 Pine Log Road, Ste. B, Conyers, GA 30012. Officer: Charlene IC. Cart, President. (Qualifying Individual)

Handle With Care Packaging Store, 2413 Zanker Road, San Jose, CA 95131, Narinder Singh Sandhu, Sole Proprietor.

Southeast Vocational Alliance Inc., 6018 Nunn, Houston, TX 77087. Officers: Carvis R. Junious, Operations Manager, (Qualifying Individual) Kzysynthia Rido, President.

American International Shipping, LLC, 6111 FM 1960 RD West, Ste. 105, Houston, TX 77069. Officer: Mohained F. Elhusseiny, Manager. (Qualifying Individual)

CJ GLS America, Inc., 404 Foxrun Avenue, Opelika, AL 36801. Officer: Kun C. Kim, CEO. (Qualifying Individual)

Bright Star Logistics, Inc., 11205 S. LA Cienega Blvd., Los Angeles, CA 90045. Officer: Soon S. Lim, Vice President. (Qualifying Individual)

AS Logistics, Inc. dba Aanstan Logistics, 101 Knightsbridge Dr., Hamilton, OH 45011. Officer: Michael J. Seboria, President. (Qualifying Individual)

Cargozone Logistics, Inc., 1490 Beachey Place, Carson, CA 90746. Officer: Sunny Hong, CFO. (Qualifying Individual)

Millennium Express and Travel, LLC, 91-1401 Halahua Street, Kapolei, HI 96707. Officer: Sonrisa S. Ibanez, Exec. Officer. (Qualifying Individual)

Aerospace Logistics Group LLC, 9538 South Clifton Park Ave., Evergreen Park, IL 60805. Officer: Wallace Tripplet, Vice President. (Qualifying Individual)

B.C. Logistics, LTJC, 918 S. Park Lane, Ste. 103, Tempe, AZ 85281. Officer: Vicki Bolejolie, President. (Qualifying Individual)

Ocean Freight Forwarder—Ocean Transportation Intermediary Applicants

Red Ball Forwarders, Inc., 1335 Sadlier Circle E. Drive, Indianapolis, IN 46239. Officers: Michael Cobb, Vice President, (Qualifying Individual) Katrina Blackwell, CEO.

Integrity Cargo Freight Corporation, 160 Rte. 35N, Cliffwood Beach, NJ 07735. Officers: Charles Derosa, Vice President, (Qualifying Individual) Angelo Derosa, President.

Phil-Ex Cargo Inc., 94-1018 Awalai Street, Waipahu, HI 96797. Officers: Narciso Gamiao, Jr., President, (Qualifying Individual) Roger Rafanan, Director.

Dated: February 21, 2008.
Karen V. Gregory,
Assistant Secretary.

[FR Doc. E8-3674 Filed 2-26-08; 8:45 am]

BILLING CODE 6730-01-P